DEPARTMENT OF STATE

[Public Notice 7602]

Notice of Receipt of Cultural Property Request From the Government of the Republic of Belize

Belize, concerned that its cultural heritage is in jeopardy from pillage, made a request to the Government of the United States under Article 9 of the 1970 UNESCO Convention. United States Department of State received this request in September 2011. Belize's request seeks U.S. import restrictions on archaeological material from Belize representing its Pre-Colombian heritage dating from the Preceramic (9000 B.C.) through the Spanish Colonial period (A.D. 1798).

The specific contents of this request are treated as confidential government-to-government information.

Information about U.S. implementation of the 1970 UNESCO Convention can be found at http://exchanges.state.gov/heritage. A public summary of Belize's request will be posted on that Web site.

Dated: September 30, 2011.
Ann Stock,
Assistant Secretary of State for Educational and Cultural Affairs, Department of State.

[FR Doc. 2011-26646 Filed 10-13-11; 8:45 am]

BILLING CODE 4710-05-P